DEPARTMENT OF COMMERCE

National Oceanic and Atmospheric Administration

[I.D. 021302A]

Atlantic Coastal Fisheries Cooperative Management Act; Meeting

AGENCY: National Marine Fisheries Service (NMFS), National Oceanic and Atmospheric Administration (NOAA), Commerce.

ACTION: Meeting.

SUMMARY: NMFS and the U.S. Fish and Wildlife Service (USFWS) will hold a joint meeting to discuss coordination of activities that support Atlantic States Marine Fisheries Commission coastal fisheries management plans under the Atlantic Coastal Fisheries Cooperative Management Act and the Atlantic Striped Bass Conservation Act.

DATES: The meeting will convene on Wednesday, March 27, 2002, at 10 a.m. and will adjourn at approximately 3 p.m. The meeting is open to the public.

ADDRESSES: National Marine Fisheries Service, 1315 East-West Highway, Silver Spring, MD 20910.

FOR FURTHER INFORMATION CONTACT: Anne Lange, State Federal Fisheries Staff, NMFS; telephone: (301) 713-2334.

SUPPLEMENTARY INFORMATION: NMFS-USFWS hold annual coordination meetings established under a Memorandum of Understanding to develop and implement a program to support interstate fishery management efforts associated with the Atlantic Coastal Fisheries Cooperative Management Act. The main agenda items are: the 2002-2003 Workplan, distribution of FY2002 Atlantic Coastal Act funds, and ASMFC Fishery Management Plan work for 2002.

Special Accommodations

This meeting is physically accessible to people with disabilities. Requests for sign language interpretation or other auxiliary aids should be directed to Anne Lange (see FOR FURTHER INFORMATION CONTACT) at least 7 days prior to the meeting date.

Dated: February 14, 2002.
Bruce C. Morehead,
Acting Director, Office of Sustainable Fisheries, national Marine Fisheries Service.

[FR Doc. 02-4176 Filed 2-20-02; 8:45 am]

BILLING CODE 3510-22-S